NUCLEAR REGULATORY COMMISSION

Public Meeting on 10 CFR Part 70—Standard Review Plan

AGENCY: Nuclear Regulatory Commission (NRC).

ACTION: Notice of meeting.

SUMMARY: NRC will host a public meeting in Rockville, Maryland. The meeting will provide an opportunity for discussion on the revised Standard Review Plan (SRP) Chapter 11 and Nuclear Energy Institute's (NEI) revised Integrated Safety Analysis (ISA) Summary guidance document. The revised SRP can be reviewed on the Internet at the following website: http://techconf.llnl.gov/cgi-bin/library?source=*&library=Part_70—lib_file.

The web site can also be reached by the following method:

1. Go the main NRC web site at: ­http://www.nrc.gov

2. Scroll down towards the bottom of that page and click on the word “Rulemaking.”

3. Scroll down on the Rulemaking page till you see the words “Technical Conference.” Click on those words.

4. On the page titled “Welcome to the NRC Technical Conference Forum,” click where it says to participate in Technical Conferences.

5. Scroll down to the topic “Draft Standard Review Plan and Guidance on Amendment to 10 CFR Part 70.”

6. Select “Document Library.”

PURPOSE: This meeting will provide an opportunity to discuss any comments on the staff's recently revised Chapter 11.

DATES: The meeting is scheduled for Tuesday, September 12, 2000, from 9:00 a.m. to 4:30 p.m. The meeting is open to the public.

ADDRESSES: Technical Training Center T-3B-43 at Two White Flint North, 11545 Rockville Pike, Rockville, Maryland. Visitor parking around the NRC building is limited; however, the meeting site is located adjacent to the White Flint Station on the Metro Red Line.

FOR FURTHER INFORMATION CONTACT: Heather Astwood, Project Manager, Fuel Cycle Licensing Branch, Division of Fuel Cycle and Safeguards, Office of Nuclear Material Safety and Safeguards, U.S. Nuclear Regulatory Commission, Washington, DC 20555, telephone: (301) 415-5819, e-mail hma@nrc.gov.

Dated at Rockville, Maryland this 31st day of August, 2000.
For the Nuclear Regulatory Commission
Philip Ting,
Chief, Fuel Cycle Licensing Branch, Division of Fuel Cycle Safety and Safeguards Office of Nuclear Material Safety and Safeguards.

[FR Doc. 00-22957 Filed 9-6-00; 8:45 am]

BILLING CODE 7590-01-P